DEPARTMENT OF COMMERCE

International Trade Administration

Extension of Time Limit for Preliminary Results of Full Five-Year Reviews

AGENCY: Import Administration, International Trade Administration, Department of Commerce.

ACTION: Notice of Extension of Time Limit for Preliminary Results of Full Five-Year (“Sunset”) Reviews.

SUMMARY: The Department of Commerce (“the Department”) is extending the time limit for the preliminary results of two full sunset reviews initiated on November 2, 1999 (64 FR 59160) covering an antidumping duty order and a suspended antidumping investigation. Based on adequate responses from domestic and respondent interested parties, the Department is conducting full sunset reviews to determine whether revocation of the antidumping duty order on DRAMS of 1 megabit and above from South Korea and the termination of the suspended antidumping investigation on silicomanganese from Ukraine would be likely to lead to continuation or recurrence of dumping. As a result of these extensions, the Department intends to issue its preliminary results not later than May 22, 2000.

EFFECTIVE DATE: February 25, 2000.

FOR FURTHER INFORMATION CONTACT: Mark D. Young or Melissa G. Skinner, Import Administration, International Trade Administration, U.S. Department of Commerce, 14th Street and Constitution Avenue, NW, Washington, D.C. 20230; telephone: (202) 482-6397, or (202) 482-1560 respectively.

Extension of Preliminary Results:

In accordance with section 751(c)(5)(C)(v) of the Tariff Act of 1930, as amended (“the Act”), the Department may treat a sunset review as extraordinarily complicated if it is a review of a transition order (i.e., an order in effect on January 1, 1995). The reviews at issue concern transition orders within the meaning of section 751(c)(6)(C)(ii) of the Act. The Department has determined that the sunset reviews of the following antidumping duty order and suspended antidumping investigation are extraordinarily complicated:

A-583-816 Silicomanganese from Ukraine

A-580-812 DRAMS of 1 Megabit and Above from South Korea

Therefore, the Department is extending the time limit for completion of the preliminary results of these reviews until not later than May 22, 2000, in accordance with section 751(c)(5)(B) of the Act.

Dated: February 18, 2000.
Robert S. LaRussa,
Assistant Secretary for Import Administration.

[FR Doc. 00-4523 Filed 2-24-00; 8:45 am]

BILLING CODE 3510-DS-P